DEPARTMENT OF THE INTERIOR

National Park Service

[NPS-AKR-GAAR-14152; PX.P0166543E.00.1]

Notice to Terminate the Environmental Impact Statement on a Gates of the Arctic National Park and Preserve General Management Plan Amendment

AGENCY: National Park Service, Interior.

ACTION: Notice.

SUMMARY: The National Park Service (NPS) is terminating the Wilderness Study and Environmental Impact Statement (EIS) on a General Management Plan Amendment (GMPA) for Gates of the Arctic National Park and Preserve. The NPS published a notice of intent to prepare an EIS on a GMPA/Wilderness Study EIS for Gates of the Arctic National Park and Preserve in the Federal Register (75 FR 4413) on January 27, 2010.

Public scoping occurred in the spring of 2010, a preliminary alternatives newsletter was distributed to the public in the fall of 2010, and a Wilderness Study newsletter was sent to the public in the winter of 2011. One of the key areas of focus for the EIS was a Wilderness Study for lands in the preserve that are presently identified as eligible but that have not been proposed for wilderness designation.

Under the enabling legislation, Section 201 of the Alaska National Interest Lands Conservation Act (ANILCA), Congress provided for a right-of-way across the Kobuk Unit of the preserve for access to an adjacent mining district (ANILCA Section 201(4)(b)-(e)). In 2011, the State of Alaska, at the request of a project proponent, began preliminary field studies in preparation for the application for a right-of-way. If a complete application is received, the Secretary of the Interior and Secretary of Transportation will jointly agree on the route for issuance of a right-of-way, after completion of an environmental and economic analysis prepared in lieu of an EIS which would otherwise be required under the National Environmental Policy Act.

Funding by the Alaska Industrial Development and Export Authority to study the feasibility of a road has accelerated the schedule for potentially filing a right-of-way application. Due to the possibility that a right-of-way application may be filed, the NPS decided to defer the Wilderness Study and complete the GMPA with an environmental assessment. The GMPA will include a wilderness stewardship plan and update the GMP to reflect current planning standards, including zoning, capacity, and desired conditions for management. The alternatives under consideration in the GMPA do not include any new facilities or substantial staffing changes, and are not expected to have significant impacts on the human environment.

FOR FURTHER INFORMATION CONTACT: Greg Dudgeon, Superintendent, Gates of the Arctic National Park and Preserve, 4175 Geist Road, Fairbanks, AK 99709-3420; telephone (907) 457-5752.

Dated: September 25, 2013.
Joel Hard,
Acting Regional Director, Alaska Region.

[FR Doc. 2013-28367 Filed 11-25-13; 8:45 am]

BILLING CODE 4312-EF-P